DEPARTMENT OF HEALTH AND HUMAN SERVICES

Centers for Medicare & Medicaid Services

42 CFR Part 414

[CMS-5522-F2]

RIN 0938-AT13

Medicare Program; CY 2018 Updates to the Quality Payment Program; and Quality Payment Program: Extreme and Uncontrollable Circumstance Policy for the Transition Year; Corrections

AGENCY: Centers for Medicare & Medicaid Services (CMS), HHS.

ACTION: Final rule with comment period and interim final rule with comment period; correction and correcting amendment.

SUMMARY: This document corrects technical errors that appeared in the final rule with comment period and interim final rule with comment period published in the Federal Register on November 16, 2017 entitled “Medicare Program; CY 2018 Updates to the Quality Payment Program; and Quality Payment Program: Extreme and Uncontrollable Circumstance Policy for the Transition Year” (hereinafter referred to as the “CY 2018 Quality Payment Program final rule”).

DATES: This correction is effective May 22, 2018.

FOR FURTHER INFORMATION CONTACT:

Molly MacHarris, (410) 786-4461, for inquiries related to MIPS.

Benjamin Chin, (410) 786-0679, for inquiries related to APMs.

SUPPLEMENTARY INFORMATION:

I. Background

In FR Doc. 2017-24067 (82 FR 53568), the final rule with comment period and interim final rule with comment period there were a number of technical errors that are identified and corrected in the Correction of Errors section of this correcting document. The provisions in this correction document are effective as if they had been included in the document published in the Federal Register on November 16, 2017. Accordingly, the corrections are applicable for program years beginning January 1, 2018.

II. Summary of Errors

A. Summary of Errors in Preamble

On page 53577, we inadvertently made an error in citing the incremental collection of information-related burden.

On page 53743, we inadvertently made an error in identifying the regulation text citation.

On page 53744, we inadvertently made an error in identifying the regulation text citation.

On page 53900, we inadvertently made an error in citing the reduction in burden cost relative to a baseline of continuing the policies in the CY 2017 Quality Payment Program final rule.

On page 53911, we inadvertently made an error in citing the estimated data submission burden for the Quality Payment Program.

On page 53925, we inadvertently made an error in citing the total estimated labor cost for annual recordkeeping and data submission.

On page 53925, we inadvertently made an error in citing the decrease in labor cost burden relative to the estimated baseline of continued transition year policies.

On page 53925, Table 74—Annual Recordkeeping And Submission Requirements

a. Sixth column titled “Total annual burden cost”, second row, we inadvertently made an error in citing the total annual burden cost for QCDR and Registries self-nomination.

b. Sixth column titled “Total annual burden cost”, nineteenth row, we inadvertently made an error in citing the total annual burden cost.

On page 53927, we inadvertently made an error in citing the reduction in burden costs in the Quality Payment Program Year 2 relative to Quality Payment Program Year 1.

On page 53950, we inadvertently made an error in citing the collection of information-related burden associated with the CY 2018 Quality Payment Program final rule with comment period.

On page 53950, we inadvertently made an error in citing the reduction in incremental collection of information-related burden associated with the CY 2018 Quality Payment Program final rule with comment period relative to the baseline burden of continuing the policies and information collections set forth in the CY 2017 Quality Program final rule.

On page 53950, Table 81—Additional Costs And Benefits, in the second column titled “Costs/benefits”, second row, we inadvertently made an error in citing the incremental collection of information/Paperwork Reduction Act burden estimates.

B. Summary of Errors in Regulation Text

On page 53954, in the regulation text at § 414.1370(g)(1)(ii)(B), we inadvertently made errors in identifying the beginning CY performance period for which CMS calculates a quality improvement score for an APM Entity.

On page 53954, at 414.1370(h)(5)(i)(B), due to typographical errors, the percent values for the advancing care information performance category and the improvement activities performance category are incorrect.

On page 53957, we inadvertently made an error in identifying the regulation text citation.

On page 53961, at § 414.1420(d)(3)(i), we inadvertently deleted the existing regulation text regarding the expected expenditures standard.

C. Summary of Errors in Appendix

On page 53969, Table A.3. Average Change in Leg Pain following Lumbar Discectomy/Laminotomy, Quality #461, we inadvertently omitted the MAP recommendation description in the “Rationale”.

On page 53970, Table A.4. Bone Density Evaluation for Patients with Prostate Cancer and Receiving Androgen Deprivation Therapy, Quality #462, we incorrectly identified the MAP recommendation description in the “Rationale”.

On page 53971, Table A.5. Prevention of Post-Operative Vomiting (POV)—Combination Therapy (Pediatrics), Quality #463 we inadvertently omitted the MAP recommendation description in the “Rationale”.

On page 53973, Table A.7. Uterine Artery Embolization Technique: Documentation of Angiographic Endpoints and Interrogation of Ovarian Arteries, Quality #465, we inadvertently omitted the MAP recommendation description in the “Rationale”.

On page 53976, Table B.1. Allergy/Immunology in the first column titled “Indicator”, third row, we inadvertently omitted the high priority symbol.

On page 53977, Table B.1. Allergy/Immunology (continued) in the first column titled “Indicator”, second row, we inadvertently omitted the high priority symbol.

On page 53978, Table B.1. Allergy/Immunology (continued) in the first column titled “Indicator”, third row, we inadvertently omitted the CORE measure and the high priority symbols.

On page 53985, Table B.3. Cardiology (continued) in the first column titled “Indicator”,

a. Third row, we inadvertently omitted the CORE measure and the high priority symbols.

b. Fourth row, we inadvertently omitted the high priority symbol.

On page 53986, Table B.3. Cardiology (continued) in the first column titled “Indicator”, first row, we inadvertently omitted the high priority symbol.

On page 53987, Table B.3. Cardiology (continued) in the first column titled “Indicator”, fifth row, we inadvertently omitted the high priority symbol.

On page 53992, Table B.4. Gastroenterology (continued) in the first column titled “Indicator”, third row, we inadvertently omitted the CORE measure symbol.

On page 53997, Table B.5. Dermatology (continued),

a. First column titled “Indicator”, third row, we inadvertently omitted the high priority symbol.

b. Fifth column titled “Data Submission Method”, second row, we inadvertently listed an incorrect claims submission method.

On page 54006, Table B.7. Family Medicine (continued) in the fourth column titled “CMS E-measure ID”, fifth row, we inadvertently listed an incorrect E-measure ID.

On page 54007, Table B.7. Family Medicine (continued) in the first column titled “Indicator”, second row, we inadvertently omitted the high priority symbol.

On page 54009, Table B.7. Family Medicine (continued) in the first column titled “Indicator”, first and second rows, we inadvertently omitted the high priority symbol.

On page 54010, Table B.7. Family Medicine (continued),

a. Second column titled “NQF#”, third row, due to a typographical error, we included an incorrect NQF#.

b. Ninth column titled “Measure Steward”, third row, we inadvertently omitted the Centers for Medicare & Medicaid Services (CMS) as a co-steward.

On page 54012, Table B.7. Family Medicine (continued) in the first column titled “Indicator”, fifth row, we inadvertently omitted the high priority symbol.

On page 54013, Table B.7. Family Medicine (continued) in the first column titled “Indicator”, first row, we inadvertently omitted the high priority symbol.

On page 54023, Table B.8. Internal Medicine (continued), in the first column titled “Indicator”, First and second rows, we inadvertently omitted the high priority symbol.

On pages 54024, Table B.8. Internal Medicine (continued),

a. Second column titled “NQF#”, third row, due to a typographical error, we included an incorrect NQF#.

b. Ninth column titled “Measure Steward”, third row, we inadvertently omitted the Centers for Medicare & Medicaid Services (CMS) as a co-steward.

On page 54027, Table B.8. Internal Medicine (continued), in the first column titled “Indicator”, third and fifth rows, we inadvertently omitted the high priority symbol.

On page 54036, Table B.9. Obstetrics/Gynecology (continued), in the first column titled “Indicator”, sixth row, we inadvertently omitted the high priority symbol.

On page 54037, Table B.9. Obstetrics/Gynecology (continued), in the first column titled “Indicator”, second and fourth rows, we inadvertently omitted the high priority symbol.

On page 54038, Table B.9. Obstetrics/Gynecology (continued), ninth column, fourth row, we inadvertently listed an incorrect measure steward.

On page 54047, Table B.11. Orthopedic Surgery (continued) in the first column titled “Indicator”, fifth row, we inadvertently omitted the high priority symbol.

On page 54049, Table B.11. Orthopedic Surgery (continued) in the first column titled “Indicator”, third row, we inadvertently omitted the substantive change symbol.

On page 54079, Table B.18. Neurology (continued) in the first column titled “Indicator”,

a. Third and fourth rows, we inadvertently omitted the substantive change symbol.

b. Third row, the measure title and description are inconsistent with the finalized substantive change, which is described in Table E.12.

On page 54082, for Table B.18. Neurology (continued), we inadvertently included duplicate entries for Quality #286.

On page 54086, Table B.19. Mental/Behavioral Health (continued) in the first column titled “Indicator”,

a. Third row, we inadvertently omitted the substantive change symbol.

b. Third row, the measure title and description are inconsistent with the finalized substantive change, which is described in Table E.12.

On page 54089, Table B.19. Mental/Behavioral Health (continued) in the fourth column titled “CMS E-Measure ID”, fourth row, we inadvertently listed an incorrect E-measure ID.

On page 54091, Table B.19. Mental/Behavioral Health (continued), we inadvertently included duplicate entries for Quality #286.

On page 54094, Table B.20a. Diagnostic Radiology (continued) in the first column titled “Indicator”, first row, we inadvertently omitted the high priority symbol.

On page 54098, Table B.20b. Interventional Radiology (continued) in the first column titled “Indicator”, fifth row, we inadvertently omitted the high priority symbol.

On page 54099, Table B.20b. Interventional Radiology (continued) in the first column titled “Indicator”, second row, we inadvertently omitted the high priority symbol.

On page 54102, Table B.21. Nephrology (continued) in the first column titled “Indicator”, second row, we inadvertently omitted the high priority symbol.

On page 54103, Table B.21. Nephrology (continued) in the first column titled “Indicator”,

a. First and third rows, we inadvertently omitted the high priority symbol.

b. Second row, we inadvertently omitted the CORE measure symbol.

On page 54109, Table B.23. Vascular Surgery (continued) in the first column titled “Indicator”, third row, we inadvertently omitted the high priority and CORE measure symbols.

On page 54112, Table B.23. Vascular Surgery (continued) in the first column titled “Indicator”, third row, we inadvertently omitted the high priority symbol.

On page 54113, Table B.23. Vascular Surgery (continued) in the third column titled “Quality#”, first row, due to a typographical error, the Quality# for the measure title and description was incorrect.

On page 54116, Table B.24. Thoracic Surgery (continued) in the first column titled “Indicator”, fourth row, we inadvertently omitted the high priority and CORE measure symbols.

On page 54118, Table B.24. Thoracic Surgery (continued) in the first column titled “Indicator”, first row, we inadvertently omitted the high priority and CORE measure symbols.

On page 54121, Table B.25. Urology (continued) in the first column titled “Indicator”, first row, we inadvertently omitted the high priority symbol.

On page 54122, Table B.25. Urology (continued) in the first column titled “Indicator”, fifth row, we inadvertently omitted the high priority symbol.

On page 54123, Table B.25. Urology (continued) in the first column titled “Indicator”,

a. First, second, and third rows, we inadvertently omitted the high priority symbol.

On page 54124, Table B.26. Oncology in the first column titled “Indicator”, third row, we inadvertently omitted the high priority symbol.

On page 54130, Table B.27. Hospitalists (continued) in the first column titled “Indicator”, first row, we inadvertently omitted the high priority symbol.

On page 54134, Table B.28. Rheumatology (continued) in the first column titled “Indicator”, second row, we inadvertently omitted the high priority symbol.

On page 54136, Table B.29. Infectious Disease (continued) in the first column titled “Indicator”, second row, we inadvertently omitted the high priority symbol.

On page 54137, Table B.29. Infectious Disease (continued) in the first column titled “Indicator”, second row, we inadvertently omitted the CORE measure symbol.

On page 54138, Table B.29. Infectious Disease (continued) in the first column titled “Indicator”, fifth row, we inadvertently omitted the high priority and CORE measure symbols.

On page 54139, Table B.29. Infectious Disease (continued) in the first column titled “Indicator”, first row, we inadvertently omitted the high priority symbol.

On page 54141, Table B.30. Neurosurgical (continued) in the first column titled “Indicator”, third row, we inadvertently omitted the high priority symbol.

On page 54142, Table B.30. Neurosurgical (continued) in the first column titled “Indicator”,

a. Fourth and fifth rows, we inadvertently omitted the high priority symbol.

On page 54145, Table B.31. Podiatry (continued) in the first column titled “Indicator”, first row, we inadvertently omitted the CORE measure symbol.

On page 54146, Table B.32. Dentistry (continued) in the first column titled “Indicator”, first row, we inadvertently omitted the high priority symbol.

On page 54163, Table E.1. CAHPS for MIPS Clinician/Group Survey

a. First row titled “NQF#”, due to a typographical error, we included an incorrect NQF#.

b. Seventh row titled “Substantive Change”, we inadvertently omitted the SSMs that remain for the measure.

c. Eighth row titled “Steward”, we inadvertently omitted the Centers for Medicare & Medicaid Services (CMS) as a co-steward.

On page 54204, in Table G: Improvement Activities with Changes for the Quality Payment Program Year 2 and Future Years,

a. Eighteenth row, titled “Response”, we inadvertently added qualifier language that was incorrect.

b. Nineteenth row, titled “Rationale” we inadvertently added qualifier language that was incorrect.

On page 54216, in Table G: Improvement Activities with Changes for the Quality Payment Program Year 2 and Future Years, thirty-ninth row, titled “Currently Eligible for Advancing Care Information Bonus”, we incorrectly stated that this activity was not eligible for the Advancing Care Information Bonus. IA_PM_13 is eligible for the Advancing Care Information Bonus.

III. Waiver of Proposed Rulemaking, 60-Day Comment Period, and Delay in Effective Date

Under 5 U.S.C. 553(b) of the Administrative Procedure Act (APA), the agency is required to publish a notice of the proposed rule in the Federal Register before the provisions of a rule take effect. Similarly, section 1871(b)(1) of the Act requires the Secretary to provide for notice of the proposed rule in the Federal Register and provide a period of not less than 60 days for public comment. In addition, section 553(d) of the APA, and section 1871(e)(1)(B)(i) of the Act mandate a 30-day delay in effective date after issuance or publication of a rule. Sections 553(b)(B) and 553(d)(3) of the APA provide for exceptions from the notice and comment and delay in effective date APA requirements; in cases in which these exceptions apply, sections 1871(b)(2)(C) and 1871(e)(1)(B)(ii) of the Act provide exceptions from the notice and 60-day comment period and delay in effective date requirements of the Act as well. Section 553(b)(B) of the APA and section 1871(b)(2)(C) of the Act authorize an agency to dispense with normal rulemaking requirements for good cause if the agency makes a finding that the notice and comment process are impracticable, unnecessary, or contrary to the public interest. In addition, both section 553(d)(3) of the APA and section 1871(e)(1)(B)(ii) of the Act allow the agency to avoid the 30-day delay in effective date where such delay is contrary to the public interest and an agency includes a statement of support.

We believe that this correcting document does not constitute a rule that would be subject to the notice and comment or delayed effective date requirements. The document corrects technical errors in the CY 2018 Quality Payment Program final rule, but does not make substantive changes to the policies or payment methodologies that were adopted in the final rule. As a result, this correcting document is intended to ensure that the information in the CY 2018 Quality Payment Program final rule accurately reflects the policies adopted in that document.

In addition, even if this were a rule to which the notice and comment procedures and delayed effective date requirements applied, we find that there is good cause to waive such requirements. Undertaking further notice and comment procedures to incorporate the corrections in this document into the final rule or delaying the effective date would be contrary to the public interest because it is in the public's interest for providers to receive appropriate payments in as timely a manner as possible, and to ensure that the CY 2018 Quality Payment Program final rule accurately reflects our methodologies and policies. Furthermore, such procedures would be unnecessary, as we are not making substantive changes to our methodologies or policies, but rather, we are simply implementing correctly the methodologies and policies that we previously proposed, requested comment on, and subsequently finalized. This correcting document is intended solely to ensure that the CY 2018 Quality Payment Program final rule accurately reflects these methodologies and policies. Therefore, we believe we have good cause to waive the notice and comment and effective date requirements.

IV. Correction of Errors

In FR Doc. 2017-24067 (82 FR 53568), make the following corrections:

A. Correction of Errors in Preamble

1. On page 53577, second column, second full paragraph, line 10, the phrase “of approximately $13.9 million relative” is corrected to read “of approximately $14.2 million relative”.

2. On page 53743, second column, first full paragraph, under the heading “(iii) Additional Requirement for Full Participation To Measure Improvement for Quality Performance Category”, line 7, the reference “§ 414.1330” is corrected to read “§ 414.1335”.

3. On page 53744, third column, third full paragraph, line 6, the reference “§ 414.1330” is corrected to read “§ 414.1335”.

4. On page 53900, second column, first partial paragraph, line 7, the phrase “burden cost of approximately $13.9” is corrected to read “burden cost of approximately $14.2”.

5. On page 53911, third column, second full paragraph, line 3, the phrase “approximately $695 million” is corrected to read “approximately $694 million”.

6. On page 53925, first column, second full paragraph, line 6, the phrase “total labor cost of $694,183,802” is corrected to read “total labor cost of “$693,949,289”.

7. On page 53925, third column, first full paragraph, line 3, the phrase “by 171,264 hours and $13.9 million in” is corrected to read “by 171,264 hours and $14.2 million in”.

8. On page 53925, in Table 74—Annual Recordkeeping And Submission Requirements, sixth column, row 2, the total annual burden cost for QCDR and Registries self-nomination “439,786” is corrected to read “205,273”.

9. On page 53925, in Table 74—Annual Recordkeeping And Submission Requirements, sixth column, row 19, the total annual burden cost “694,183,802” is corrected to read “693,949,289”.

10. On page 53927, first column, first partial paragraph, line 4, the phrase “costs of $13.9 million in the Quality” is corrected to read “costs of $14.2 million in the Quality”.

11. On page 53950, first column, first full paragraph, line 4, the phrase “will result in approximately $695” is corrected to read “will result in approximately $694”.

12. On page 53950, second column, first partial paragraph, line 2, the phrase “period is and approximately $13.9” is corrected to read “period is and approximately $14.2”.

13. On page 53950, Table 81, Additional Costs And Benefits second column, Costs/benefits second row, the dollar value “$13.9 million” is corrected to read “$14.2 million”.

B. Correction of Errors in Appendix

1. On page 53969, in Table A.3. Average Change in Leg Pain following Lumbar Discectomy/Laminotomy, the listed entry is corrected to read as follows:

BILLING CODE 4120-01-P

2. On page 53970, in Table A.4. Bone Density Evaluation for Patients with Prostate Cancer and Receiving Androgen Deprivation Therapy, the listed entry is corrected to read as follows:

3. On page 53971, in Table A.5, Prevention of Post-Operative Vomiting (POV)—Combination Therapy (Pediatrics) the listed entry is corrected to read as follows:

4. On page 53973, in Table A.7, Uterine Artery Embolization Technique: Documentation of Angiographic Endpoints and Interrogation of Ovarian Arteries, the listed entry is corrected to read as follows:

5. On pages 53976, 53977 and 53978, in Table B.1 Allergy/Immunology, the listed entries are corrected to read as follows:

6. On pages 53985, 53986, and 53987, in Table B.3 Cardiology (continued), the listed entries are corrected to read as follows:

7. On page 53992, in Table B.4 Gastroenterology (continued), the listed entry is corrected to read as follows:

8. On page 53997, in Table B.5 Dermatology (continued), the listed entries are corrected to read as follows:

9. On page 54006, 54007, 54009, 54010, 54012, and 54013, in Table B.7 Family Medicine (continued) the listed entries are corrected to read as follows:

10. On pages 54023, 54024, and 54027, in Table B.8 Internal Medicine (continued), the listed entries are corrected to read as follows:

11. On pages 54036, 54037, and 54038, in Table B.9 Obstetrics/Gynecology (continued), the listed entries are corrected to read as follows:

12. On pages 54047 and 54049, in Table B.11 Orthopedic Surgery (continued), the listed entries are corrected to read as follows:

13. On page 54079, in Table B.18 Neurology (continued), the listed entries are corrected to read as follows:

14. On page 54082, in Table B.18 Neurology (continued), the third row (including the Quality #286) is removed.

15. On page 54086, 54089, and 54091, in Table B.19 Mental/Behavioral Health (continued), the listed entries are corrected to read as follows:

16. On page 54091, in Table B.19 Mental/Behavioral Health (continued), the third row (including the Quality #286) is removed.

17. On page 54094, in Table B.20a Diagnostic Radiology (continued), the listed entry is corrected to read as follows:

18. On page 54098 and 54099, in Table B.20b Interventional Radiology, the listed entries are corrected to read as follows:

19. On pages 54102 and 54103, in Table B.21 Nephrology (continued), the listed entries are corrected to read as follows:

20. On pages 54109, 54112, and 54113, in Table B.23 Vascular Surgery (continued), the listed entries are corrected to read as follows:

21. On pages 54116 and 54118, in Table B.24 Thoracic Surgery (continued), the listed entries are corrected to read as follows:

22. On page 54121, 54122, and 54123, in Table B.25 Urology (continued), the listed entries are corrected to read as follows:

23. On page 54124, in Table B.26 Oncology, the listed entry is corrected to read as follows:

24. On page 54130, in Table B.27 Hospitalists (continued), the listed entry is corrected to read as follows:

25. On page 54134, Table B.28 Rheumatology (continued), the listed entry is corrected to read as follows:

26. On pages 54136, 54137, 54138, and 54139, in Table B.29. Infectious Disease (continued), the listed entries are corrected to read as follows:

27. On pages 54141 and 54142, in Table B.30 Neurosurgical, the listed entries are corrected to read as follows:

28. On page 54145, in Table B.31 Podiatry (continued), the listed entry is corrected to read as follows:

29. On page 54146, in Table B.32 Dentistry, the listed entry is corrected to read as follows:

30. On page 54163, in Table E.1, CAHPS for MIPS Clinician/Group Survey, the listed entries are corrected to read as follows:

31. On page 54204, in Table G Improvement Activities with Changes for the Quality Payment Program Year 2 and Future Years, the following entries are corrected to read as follows:

32. On page 54216, in Table G Improvement Activities with Changes for the Quality Payment Program Year 2 and Future Years, the following entries are corrected to read as follows:

BILLING CODE 4120-01-C

List of Subjects in 42 CFR Part 414

Administrative practice and procedure, Biologics, Drugs, Health facilities, Health professions, Diseases, Medicare, Reporting and recordkeeping requirements.

Accordingly, 42 CFR chapter IV is corrected by making the following correcting amendments:

PART 414—PAYMENT FOR PART B MEDICAL AND OTHER HEALTH SERVICES

1. The authority citation for part 414 continues to read as follows:

Authority: Secs. 1102, 1871, and 1881(b)(l) of the Social Security Act (42 U.S.C. 1302, 1395hh, and 1395rr(b)(l)).

2. Section 414.1370 is amended by revising paragraphs (g)(1)(ii)(B) and (h)(5)(i)(B) to read as follows:

§ 414.1370 APM scoring standard under MIPS.

* * * * *

(g) * * *

(1) * * *

(ii) * * *

(B) Quality Improvement Score. Beginning in 2018, for an APM Entity for which CMS calculated a total quality performance category score for the previous MIPS performance period, CMS calculates a quality improvement score for the APM Entity group, as specified in § 414.1380(b)(1)(xvi).

* * * * *

(h) * * *

(5) * * *

(i) * * *

(B) Beginning in 2018, the advancing care information performance category is reweighted to 75 percent and the improvement activities performance category is reweighted to 25 percent.

* * * * *

§ 414.1380 [Amended]

3. Section 414.1380 is amended in paragraph (b)(1)(xvi)(F) by removing the reference “§§ 414.1330” and adding in its place the reference “§§ 414.1335”.

4. Section 414.1420 is amended by revising paragraph (d)(3)(i) to read as follows:

§ 414.1420 Other payer advanced APM criteria.

* * * * *

(d) * * *

(3) * * *

(i) For the 2019 and 2020 QP Performance Periods, 8 percent of the total combined revenues from the payer to providers and other entities under the payment arrangement if financial risk is expressly defined in terms of revenue; or, 3 percent of the expected expenditures for which an APM Entity is responsible under the payment arrangement; or

* * * * *

Dated: May 16. 2018.
Ann C. Agnew,
Executive Secretary to the Department, Department of Health and Human Services.

[FR Doc. 2018-10923 Filed 5-21-18; 8:45 am]

BILLING CODE 4120-01-P